FEDERAL COMMUNICATIONS COMMISSION

47 CFR Part 1

[WT Docket No. 99-217; FCC 04-41]

Promotion of Competitive Networks in Local Telecommunications Markets

AGENCY: Federal Communications Commission.

ACTION: Final rule, petition for reconsideration.

SUMMARY: In this document the Commission addresses four petitions seeking Reconsideration and/or Clarification of the Commission's determination to extend to users of fixed-wireless telecommunications antennas the same OTARD (Over-the-Air-Reception Devices) protections previously available to customers of multi-channel video service.

DATES: Effective July 27, 2004.

FOR FURTHER INFORMATION CONTACT: Cara Voth, Broadband Division, Wireless Telecommunications Bureau, at (202) 418-0025.

SUPPLEMENTARY INFORMATION: This is a summary of the Commission's Order on Reconsideration, (Order) released on March 24, 2004 (FCC 04-41). The full text of the Order is available for inspection and copying during normal business hours in the FCC Reference Center, Room CY-A257, 445 12th Street, SW., Washington, DC 20554. The complete text may also be purchased from the Commission's duplicating contractor, Qualex International, Portals II, 445 12th Street, SW., Room CY-B402, Washington, DC, telephone (202) 863-2893, facsimile (202) 863-2898, or via e-mail qualexint@aol.com. Additionally, the complete item is available on the Commission's Web site at http://www.fcc.gov/wtb.

I. Prodedural Matters

A. Regulatory Flexibility Act

1. A Regulatory Flexibility Analysis is not required because this order does not promulgate or revise any rules.

2. This action is taken pursuant to sections 4(i), 303, and 405 of the Communications Act of 1934, as amended by the Telecommunications Act of 1996, 47 U.S.C. 154(i), 303, and 405.

II. Ordering Clauses

3. The Petition for Reconsideration filed by Real Access Alliance, Inc., is denied.

4. The Petition for Partial Reconsideration filed by the Wireless Communications Association, Inc., is granted.

5. The Petition for Clarification and Partial Reconsideration filed by the Satellite Broadcasting Industry Association and Satellite Industry Association, Broadband and Internet Division, is granted.

6. The Petition for Reconsideration filed by Triton Network Systems, Inc., is granted.

Federal Communications Commission.
Marlene H. Dortch,
Secretary.

[FR Doc. 04-12164 Filed 5-27-04; 8:45 am]

BILLING CODE 6712-01-P